CONSUMER PRODUCT SAFETY COMMISSION

16 CFR Part 1307

[Docket No. CPSC-2014-0033]

Prohibition of Children's Toys and Child Care Articles Containing Specified Phthalates; Notice of Extension of Comment Period

AGENCY: U.S. Consumer Product Safety Commission.

ACTION: Extension of comment period.

SUMMARY: The Consumer Product Safety Commission (Commission or CPSC) published a notice of proposed rulemaking (NPR) in the Federal Register on December 30, 2014, proposing to prohibit children's toys and child care articles containing specified phthalates. The NPR invited the public to submit comments; the comment period as set in the NPR ends March 16, 2015. The Commission is extending the comment period until April 15, 2015.

DATES: Submit comments by April 15, 2015.

ADDRESSES: You may submit comments, identified by Docket No. CPSC-2014-0033, by any of the following methods:

Electronic Submissions

Submit electronic comments in the following way:

Federal eRulemaking Portal: http://www.regulations.gov. Follow the instructions for submitting comments. The Commission does not accept comments submitted by electronic mail (email), except through: http://www.regulations.gov. The Commission encourages you to submit electronic comments by using the Federal eRulemaking Portal, as described above.

Written Submissions

Submit written submissions in the following way:

Mail/Hand delivery/Courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov and insert the Docket No. CPSC-2014-0033 into the “Search” box and follow the prompts.

SUPPLEMENTARY INFORMATION: On December 30, 2014, the Commission published an NPR in the Federal Register proposing to prohibit children's toys and child care articles containing specified phthalates. (79 FR 78324). The Commission issued the proposed rule under the authority of section 108 of the Consumer Product Safety Improvement Act of 2008 (CPSIA). The Commission is extending the comment period until April 15, 2015 to allow additional time for public comment on the NPR.

Alberta E. Mills,
Acting Secretary, U.S. Consumer Product Safety Commission.

[FR Doc. 2015-06389 Filed 3-19-15; 8:45 am]

BILLING CODE 6355-01-P